DEPARTMENT OF LABOR

Employment and Training Administration

[TA-W-53,882]

International Mill Service, Midland, Pennsylvania; Notice of Termination of Investigation

Pursuant to section 221 of the Trade Act of 1974, an investigation was initiated on December 24, 2003, in response to a worker petition which was filed by the United Steelworkers of America Local 1212 on behalf of workers at International Mill Service, Midland, Pennsylvania.

The petitioner has requested that the petition be withdrawn. Consequently, the investigation has been terminated.

Signed in Washington, DC, this 20th day of January, 2004.
Richard Church,
Certifying Officer, Division of Trade Adjustment Assistance.

[FR Doc. 04-3325 Filed 2-13-04; 8:45 am]

BILLING CODE 4510-30-P